INTERNATIONAL TRADE COMMISSION

[Investigation No. 332-565]

American Manufacturing Competitiveness Act: Effects of Temporary Duty Suspensions and Reductions on the U.S. Economy; Institution of Investigation and Scheduling of Hearing

AGENCY: United States International Trade Commission.

ACTION: Institution of investigation and scheduling of public hearing.

SUMMARY: The U.S. International Trade Commission has instituted investigation No. 332-565, American Manufacturing Competitiveness Act: Effects of Temporary Duty Suspensions and Reductions on the U.S. Economy, for the purpose of preparing the report required by section 4 of the American Manufacturing Competitiveness Act of 2016 on the effects on the U.S. economy of duty suspensions and reductions contained in a miscellaneous tariff bill. The Commission will also solicit and append to the report recommendations with respect to domestic industry sectors or specific domestic industries that might benefit from permanent duty suspensions and reductions. The Commission will hold a public hearing in the investigation on March 5, 2019.

DATES:

February 19, 2019: Deadline for filing requests to appear at the public hearing.

February 22, 2019: Deadline for filing pre-hearing briefs and statements.

March 5, 2019: Public hearing.

March 12, 2019: Deadline for filing post-hearing briefs and statements.

March 22, 2019: Deadline for filing all other written submissions.

September 13, 2019: Transmittal of the Commission's report to the House Committee on Ways and Means and the Senate Committee on Finance.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://edis.usitc.gov/.

FOR FURTHER INFORMATION CONTACT: Project Leader Kimberlie Freund (202-708-5402 or kimberlie.freund@usitc.gov) or Deputy Project Leader Samantha DeCarlo (202-205-3165 or samantha.decarlo@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its website (http://www.usitc.gov). Persons with mobility impairments who will need special assistance in gaining access to the Commission should contact the Office of the Secretary at 202-205-2002.

SUPPLEMENTARY INFORMATION:

Background: Section 4 of the American Manufacturing Competitiveness Act of 2016 (the Act) (19 U.S.C. 1332 note) requires that the Commission submit a report on the effects on the U.S. economy of duty suspensions and reductions enacted pursuant to this Act no later than 12 months after the date of the enactment of a miscellaneous tariff bill. More specifically, section 4 of the Act requires that the report include a broad assessment of the economic effects of such duty suspensions and reductions on producers, purchasers, and consumers in the United States, using case studies describing such effects on selected industries or by type of article as available data permit. The Act also requires that the Commission solicit and append to the report recommendations with respect to those domestic industry sectors or specific domestic industries that might benefit from permanent duty suspensions and reductions, either through a unilateral action of the United States or through negotiations for reciprocal tariff agreements, with a particular focus on inequities created by tariff inversions.

On September 13, 2018, the President signed into law the Miscellaneous Tariff Bill Act of 2018 (Public Law 115-239), which triggers the reporting requirement. The Commission expects to transmit its report to the House Committee on Ways and Means and the Senate Committee on Finance by September 13, 2019.

Public Hearing: The Commission will hold a public hearing in connection with this investigation at the U.S. International Trade Commission Building, 500 E Street SW, Washington, DC, beginning at 9:30 a.m. on March 5, 2019. Requests to appear at the public hearing should be filed with the Secretary, no later than 5:15 p.m., February 19, 2019 in accordance with the requirements in the “Submissions” section below. All pre-hearing briefs and statements should be filed no later than 5:15 p.m., February 22, 2019; and all post-hearing briefs and statements responding to matters raised at the hearing should be filed no later than 5:15 p.m., March 12, 2019. In the event that, as of the close of business on February 19, 2019, no witnesses are scheduled to appear at the hearing, the hearing will be canceled. Any person interested in attending the hearing as an observer or nonparticipant should contact the Office of the Secretary at 202-205-2000 after February 19, 2019, for information concerning whether the hearing will be held.

Written Submissions: In lieu of or in addition to participating in the hearing, the Commission invites interested parties to file written submissions concerning this investigation. All written submissions should be addressed to the Secretary, and should be received not later than 5:15 p.m., March 22, 2019. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information or “CBI”). Persons with questions regarding electronic filing should contact the Office of the Secretary, Docket Services Division (202-205-1802).

Confidential Business Information: Any submissions that contain CBI must also conform to the requirements of section 201.6 of the Commission's Rules of Practice and Procedure (19 CFR 201.6). Section 201.6 of the rules requires that the cover of the document and the individual pages be clearly marked as to whether they are the “confidential” or “non-confidential” version, and that the CBI is clearly identified by means of brackets. The Commission will make all written submissions available for inspection by interested parties except those containing CBI.

In its request, Congress requires that this report be submitted in unclassified form, but may use a classified appendix. As such, the Commission will not include any CBI or national security classified information in the report that it delivers to the Committees. All information, including CBI, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any CBI in a manner that would reveal the operations of the firm supplying the information.

Summaries of Written Submissions: The Commission intends to publish summaries of the written submissions filed by interested persons. Persons wishing to have a summary of their submission included in the report should include a summary with their written submission. The Summary should be clearly marked as “Summary” at the top of the page. It may not exceed 500 words, should be in MSWord format or a format that can be easily converted to MSWord, and should not include any CBI. The summary will be published as provided if it meets these requirements and is germane to the subject matter of the investigation. The Commission will identify the name of the organization furnishing the summary and will include a link to the Commission's Electronic Document Information System (EDIS) where the full written submission can be found.

By order of the Commission.
Issued: October 2, 2018.
Lisa Barton,
Secretary to the Commission.

[FR Doc. 2018-21800 Filed 10-5-18; 8:45 am]

BILLING CODE 7020-02-P